DEPARTMENT OF THE INTERIOR

National Park Service

National Register of Historic Places;Notification of Pending Nominations

Nominations for the following properties being considered for listing in the National Register were received by the National Park Service before November 9, 2002. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service,1201 Eye St., NW., 8th floor, Washington DC 20005; or by fax, 202-343-1836. Written or faxed comments should be submitted by December 9, 2002.

Carol D. Shull,
Keeper of the National Register of Historic Places.

FLORIDA

Martin County

Olympia School, 9141 SE Apollo St., Hobe Sound, 02001534.

Miami-Dade County

US Coast Guard Air Station Hangar at Dinner Key, 2600 S. Bayshore Dr., Miami, 02001535.

Polk County

Lake Hunter Terrace Historic District, Roughly Central Ave., Greenwood St., Ruby St., and Sikes Blvd., Lakeland, 02001536.

INDIANA

Carroll County

Deer Creek Valley Rural Historic District, SE corner of Sec. 21, most of Sec. 22 and Areas N of Deer Creek, Delphi, 02001557.

Floyd County

East Spring Street Historic District, Roughly bounded by E. 5th, E. Spring, E. 8th, and E. Market Sts., New Albany, 02001566.

Hendricks County

Danville Courthouse Square Historic District, Roughly bounded by Clinton, Tennessee, Broadway, and Cross Sts., Danville, 02001559.

THI and E Interurban Depot—Substation, 401 S. Vine St., Plainfield, 02001562.

Lawrence County

Otis Park and Golf Course, Tunnelton Rd., Bedford, 02001560.

Ragsdale, William A., House, 607 Tunnelton Rd., Bedford, 02001565.

Monroe County

Woolery Stone Company, 2295 W. Tapp Rd., Bloomington, 02001563.

Parke County

Finney, Joseph, House, Cty Rd. 217, Bloomingdale, 02001564.

Tippecanoe County

Chauncey—Stadium Avenues Historic District, Roughly bounded by Meridian and Lincoln, River Rd., Fowler and Quincy, Northwestern and Allen Sts., West Lafayette, 02001558.

Wabash County

Roann—Paw Paw Township Public Library, 240 S. Chippewa Rd., Roann, 02001561.

IOWA

Black Hawk County

Black Hawk Hotel, 115-119 Naub St., Cedar Falls, 02001542.

Cerro Gordo County

Hotel Lester—Lester Cafe, 408-410 2nd St. NW, Mason City, 02001543.

Keerl—Decker House, 119 2nd St. SE, Mason City, 02001537.

Dubuque County

Bell, John, Block, 1307-07 Central Ave., Dubuque, 02001540.

Ziepprecht Block, 1347-53 Central Ave., Dubuque, 02001541.

Linn County

Bohemian Commercial Historic District (Cedar Rapids, Iowa MPS), 1000 to 1300 Blks of 3rd St. SE and 100 to 200 Blcks of 14ths Ave SE, Cedar Rapids, 02001539.

Taylor County

Lenox Hotel, 114 S. Main St., Lenox, 02001538.

LOUISIANA

Beauregard Parish

Shady Grove School and Community Building, 2400 LA 26, DeRidder, 02001545.

East Baton Rouge Parish

City Park Golf Course, 1442 City Park Ave., Baton Rouge, 02001546.

Morehouse Parish, Bastrop High School, 715 S. Washington St., Bastrop, 02001544.

MONTANA

Big Horn County

Moncure Tipi, MT 212, Busby, 02001547.

NEW HAMPSHIRE

Hillsborough County

Carpenter and Bean Block, 1382-1414 Elm St., Manchester, 02001548.

Smith and Dow Block, 1426-1470 Elm St., Manchester, 02001549.

NEW MEXICO

San Juan County

Farmington Historic Downtown Commercial District, Approx. 8 blks, along Main St. and Broadway, from Auburn Ave. to Miller Ave., Farmington, 02001551.

Union County

Clayton Public Library (New Deal in New Mexico MPS), 116 Walnut St., Clayton, 02001550.

OHIO

Hocking County

Inter County Highway 360 (Little Cities of Black Diamonds—Athens, Hocking, Perry Counties MPS), Iles Rd., Logan, 02001552.

PENNSYLVANIA

Philadelphia County

Suffolk Manor Apartments, 1414-1450 Clearview St., Philadelphia, 02001567

TEXAS

Galveston County

Cedar Lawn Historic District, Bounded by 45th St., 48th St., Ave. L, and Ave. N, Galveston, 02001570

Sabine County

Toole Building, 202 Main St., Hemphill, 02001568

Tarrant County

Grapevine Commercial Historic District (Boundary Increase II) (Grapevine MPS), 500-530 S. Main St., Grapevine, 02001569

UTAH

Salt Lake County

McRae, Joseph and Marie N., House, 452 E 500 S, Salt Lake City, 02001555

Ulmer, Frank M. and Susan E., House, 1458 S 1300 E, Salt Lake City, 02001556

Utah County

American Fork Third Ward Meetinghouse (Mormon Church Buildings in Utah MPS), 190 W 300 N, American Fork, 02001554

VERMONT

Windsor County

White River Junction Historic District (Boundary Increase), N. Main St., S. Main St. Bridge St., Gates St. and Church St., Hartford, 02001553

WEST VIRGINIA

Cabell County

Chesapeake and Ohio 1308 Steam Locomotive, 1401 Memorial Blvd., Huntington, 02001571

WISCONSIN

Dane County

Dick, Christian, Block, 106 E. Doty St., Madison, 02001572

A request for removal has been made for the following resources:

MISSISSIPPI

Warren County

Confederate Avenue Steel Arch Bridge (Historic Bridges of Mississippi TR), Spans Jackson Rd. In Vicksburg National Military Park, Vicksburg, 88002483

SOUTH DAKOTA

Fall River County

Edgemont Block, 610 2nd Ave., Edgemont, 96001232

[FR Doc. 02-29785 Filed 11-21-02; 8:45 am]

BILLING CODE 4310-70-P